DEPARTMENT OF THE INTERIOR

Geological Survey

[GX15.WB12.C25A1.00]

Agency Information Collection Activities: Request for Comments on the Alaska Beak Deformity Observations

AGENCY: U.S. Geological Survey (USGS), Interior.

ACTION: Notice of a new information collection, Alaska Beak Deformity Observations.

SUMMARY: We (the U.S. Geological Survey) are notifying the public that we have submitted to the Office of Management and Budget (OMB) the information collection request (ICR) described below. To comply with the Paperwork Reduction Act of 1995 (PRA) and as part of our continuing efforts to reduce paperwork and respondent burden, we invite the general public and other Federal agencies to take this opportunity to comment on this ICR.

DATES: To ensure that your comments on this ICR are considered, OMB must receive them on or before February 25, 2016.

ADDRESSES: Please submit written comments on this information collection directly to the Office of Management and Budget (OMB), Office of Information and Regulatory Affairs, Attention: Desk Officer for the Department of the Interior, via email: (OIRA_SUBMISSION@omb.eop.gov); or by fax (202) 395-5806; and identify your submission with `OMB Control Number 1028-NEW `Alaska Beak Deformity Observations'. Please also forward a copy of your comments and suggestions on this information collection to the Information Collection Clearance Officer, U.S. Geological Survey, 12201 Sunrise Valley Drive MS 807, Reston, VA 20192 (mail); (703) 648-7195 (fax); or gs-info_collections@usgs.gov (email). Please reference `OMB Information Collection 1028-NEW: `Alaska Beak Deformity Observations' in all correspondence.

FOR FURTHER INFORMATION CONTACT: Colleen Handel, Alaska Science Center, U.S. Geological Survey, 4210 University Drive, Anchorage, AK 99508 (mail); 907-786-7181 (phone); or cmhandel@usgs.gov (email). You may also find information about this ICR at www.reginfo.gov.

SUPPLEMENTARY INFORMATION:

I. Abstract

As part of the USGS Ecosystems mission to assess the status and trends of the Nation's biological resources, the Alaska Science Center Landbird Program conducts research on avian populations within Alaska. Beginning in the late 1990s, an outbreak of beak deformities in Black-capped Chickadees emerged in southcentral Alaska. USGS scientists launched a study to understand the scope of this problem and its effect on wild birds. Since that time, researchers have gathered important information about the deformities but their cause still remains unknown. Members of the public provide observation reports of birds with deformities from around Alaska and other regions of North America. These reports are very important in that they allow researchers to determine the geographical distribution and species affected. Data collection over such a large and remote area would not be possible without the public's assistance.

II. Data

OMB Control Number: 1028-NEW.

Title: Alaska Beak Deformity Observations.

Type of Request: Approval of new information collection.

Respondent Obligation: Participation is voluntary.

Frequency of Collection: Seasonally variable, from zero to ten observations as needed.

Description of Respondents: Individuals and Households.

Estimated Total Number of Annual Responses: 250.

Estimated Time per Response: We estimate that it will take approximately 5 minutes to read the instructions and 10 minutes to complete the response form.

Estimated Annual Burden Hours: 63 hours.

Estimated Reporting and Recordkeeping “Non-Hour Cost” Burden: There are no “non-hour cost” burdens associated with this collection of information.

Public Disclosure Statement: The PRA (44 U.S.C. 3501, et seq.) provides that an agency may not conduct or sponsor and you are not required to respond to a collection of information unless it displays a currently valid OMB control number. Until the OMB approves a collection of information, you are not obliged to respond.

Comments: On August 14, 2015, we published a Federal Register notice (80 FR 48909) announcing that we would submit this ICR to OMB for approval and soliciting comments. The comment period closed on October 13, 2015. We received no comments.

III. Request for Comments

We again invite comments concerning this ICR as to: (a) Whether the proposed collection of information is necessary for the agency to perform its duties, including whether the information is useful; (b) the accuracy of the agency's estimate of the burden of the proposed collection of information; (c) how to enhance the quality, usefulness, and clarity of the information to be collected; and (d) how to minimize the burden on the respondents, including the use of automated collection techniques or other forms of information technology.

Please note that comments submitted in response to this notice are a matter of public record. Before including your personal mailing address, phone number, email address, or other personally identifiable information in your comment, you should be aware that your entire comment, including your personally identifiable information, may be made publicly available at any time. While you can ask in your comment to withhold your personal identifying information from public review, we cannot guarantee that it will be done.

Mark Shasby,
Alaska Science Center Director.

[FR Doc. 2016-01430 Filed 1-25-16; 8:45 am]

BILLING CODE 4338-11-P